NUCLEAR REGULATORY COMMISSION

10 CFR Part 20

[NRC-2018-0155]

Instructions for Completing NRC's Uniform Low-Level Radioactive Waste Manifest

AGENCY: Nuclear Regulatory Commission.

ACTION: NUREG; clarification.

SUMMARY: The U.S. Nuclear Regulatory Commission (NRC) published NUREG/BR-0204, Revision 3, “Instructions for Completing NRC's Uniform Low-Level Radioactive Waste Manifest,” in June 2020. This document provides instructions to prepare NRC Form 540 (Uniform Low-Level Radioactive Waste Manifest (Shipping Paper)), NRC Form 541 (Uniform Low-Level Radioactive Waste Manifest (Container and Waste Description)), and NRC Form 542 (Uniform Low-Level Radioactive Waste Manifest (Manifest Index and Regional Compact Tabulation)). Use of NUREG/BR-0204, Revision 3 has been delayed. Until further notice, licensees should continue to use NUREG/BR-0204, Revision 2 and the versions of NRC Forms 540, 541 and 542 that were renewed in January 2020, or equivalent, as defined in NRC's regulations.

DATES: Use of NUREG/BR-0204, Revision 3 has been delayed. Until further notice, licensees should continue to use NRC Forms 540, 541 and 542, which were renewed in January 2020, or equivalent, as defined in NRC's regulations.

ADDRESSES: Please refer to Docket ID NRC-2018-0155 when contacting the NRC about the availability of information regarding this document. You may obtain publicly-available information related to this document using any of the following methods:

• Federal Rulemaking website: Go to https://www.regulations.gov and search for Docket ID NRC-2018-0155. Address questions about NRC dockets IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's Form Library: NRC Forms 540, 541, and 542 can be accessed on the NRC Form Library at https://www.nrc.gov/reading-rm/doc-collections/forms/.

FOR FURTHER INFORMATION CONTACT: Lloyd Desotell, telephone: 301-415-5969, email: Lloyd.Desotell@nrc.gov and Karen Pinkston, telephone: 301-415-3650, email: Karen.Pinkston@nrc.gov. Both are staff of the Office of Nuclear Material Safety and Safeguards at the U.S. Nuclear Regulatory Commission, Washington, DC 20555-0001.

SUPPLEMENTARY INFORMATION: NUREG/BR-0204, Rev. 3, “Instructions for Completing the NRC's Uniform Low-Level Radioactive Waste Manifest,” provides guidance on completing NRC Forms 540, 541, and 542 (i.e., the NRC's Uniform Low-Level Waste Manifest) as required by part 20 of title 10 of the Code of Federal Regulations (10 CFR), appendix G. The NRC has revised NUREG/BR-0204 and NRC Forms 540, 541, and 542 to address stakeholder feedback since the publication of Revision 2 of the NUREG/BR (ADAMS Accession No. ML071870172). The final NUREG/BR-0204, Rev. 3 and the NRC's comment resolutions are available in ADAMS under Accession Nos. ML20178A433 and ML19214A186, respectively. Following several requests to delay implementation of NUREG/BR-0204, Rev. 3, the NRC is postponing implementation of NUREG/BR-0204, Revision 3 until further notice.

Revision 2 of NUREG/BR-0204 provides guidance for completing NRC Forms 540, 541, and 542. Note, the definitions section 10 CFR part 20, appendix G, states that “Licensees need not use originals of these NRC Forms as long as any substitute forms are equivalent to the original documentation in respect to content, clarity, size, and location of information.” Until further notice licensees should continue to use the version of NRC Forms 540, 541 and 542 that were renewed in January 2020, or equivalent, as defined in NRC's regulations.

Dated: September 25, 2020.
For the Nuclear Regulatory Commission.
Bo M. Pham,
Deputy Director, Division of Decommissioning, Uranium Recovery, and Waste Programs, Office of Nuclear Material Safety and Safeguards.

[FR Doc. 2020-21625 Filed 9-29-20; 8:45 am]

BILLING CODE 7590-01-P